DEPARTMENT OF HOUSING AND URBAN DEVELOPMENT

[Docket No. FR-6000-FA-06]

Announcement of Funding Awards for HUD's Fiscal Year 2016 Community Compass Technical Assistance and Capacity Building Program

AGENCY: Office of the Assistant Secretary for Community Planning and Development, HUD.

ACTION: Notice of funding awards.

SUMMARY: In accordance with the Department of Housing and Urban Development Reform Act of 1989, this announcement notifies the public of funding decisions made by the Department in a competition for funding under the Notice of Funding Availability (NOFA) for the HUD Community Compass Technical Assistance and Capacity Building program for Fiscal Year 2016. This announcement contains the names of the awardees and amounts of the awards made available by HUD.

FOR FURTHER INFORMATION CONTACT: Kenneth W. Rogers, Team Lead, Technical Assistance Division, Office of Community Planning and Development, 451 Seventh Street SW., Room 7218, Washington, DC 20410-7000; telephone (202) 402-4396 (this is not a toll-free number). Persons with speech or hearing impairments may access this telephone number via TTY by calling the toll-free Federal Relay Service during working hours at 800-877-8339. For general information on this and other HUD programs visit the HUD Web site at http://www.hud.gov.

SUPPLEMENTARY INFORMATION: The Community Compass Technical Assistance and Capacity Building program (Community Compass) represents HUD's integrated technical assistance and capacity building initiative. Community Compass is designed to help HUD's customers navigate complex housing and community development challenges by equipping them with the knowledge, skills, tools, capacity, and systems to implement HUD programs and policies successfully and be more effective stewards of HUD funding. The goal of Community Compass is to empower communities by providing effective technical assistance and capacity building so that successful program implementation is sustained over the long term.

Recognizing that HUD's customers often interact with a variety of HUD programs as they deliver housing or community development services, Community Compass brings together technical assistance investments from across HUD program offices, including but not limited to the Office of Community Planning and Development, the Office of Housing, the Office of Public and Indian Housing, and the Office of Fair Housing and Equal Opportunity. This cross-funding approach allows technical assistance to address the needs of grantees and subgrantees across multiple HUD programs, often within the same engagement, as well as address cross-agency issues.

The competition was announced in the NOFA published on May 19, 2016, (FR-6000-N-06) and closed on July 19, 2016. The NOFA announced the availability of approximately $58 million for HUD Community Compass Technical Assistance and Capacity Building awards. Applications were rated and selected for funding on the basis of selection criteria contained in the NOFA. For the Fiscal Year 2016 competition, $56,497,435.00 was awarded to 22 technical assistance providers nationwide.

In accordance with section 102(a)(4)(C) of the Department of Housing and Urban Development Reform Act of 1989 (103 Stat. 1987, 42 U.S.C. 3545), the Department is publishing the awardees and the amounts of the awards in Appendix A to this document.

Dated: February 10, 2017.
Clifford Taffet,
General Deputy Assistant Secretary for Community Planning and Development.

Appendix A

HUD Community Compass Technical Assistance and Capacity Awards
[Fiscal Year 2016]
Recipient | City | State | Amount
Abt Associates Inc | Cambridge | MA | $8,415,119.00
AECOM Technical Services, Inc. | Baton Rouge | LA | 250,000.00
Association of Alaska Housing Authorities | Anchorage | AK | 700,000.00
Capital Access, Inc. | Philadelphia | PA | 325,000.00
Cloudburst Consulting Group, Inc. | Landover | MD | 3,875,000.00
Collaborative Solutions, Inc. | Birmingham | AL | 1,350,000.00
Corporation for Supportive Housing | New York | NY | 5,000,000.00
CVR Associates, Inc. | Tampa | FL | 1,900,000.00
Econometrica, Inc. | Bethesda | MD | 2,040,000.00
Enterprise Community Partners, Inc. | Columbia | MD | 3,950,000.00
FirstPic, Inc. | Gambrills | MD | 2,050,000.00
HomeBase/The Center for Common Concerns | San Francisco | CA | 3,500,000.00
ICF Incorporated, LLC | Fairfax | VA | 11,544,121.00
Innovative Emergency Management, Inc. | Morrisville | NC | 900,000.00
National American Indian Housing Council | Washington | DC | 2,794,401.00
National Association for Latino Community Asset Builders | San Antonio | TX | 2,265,119.00
National Council for Community Development (dba | New York | NY | 325,000.00
Rural Community Assistance Corporation | West Sacramento | CA | 1,138,675.00
TDA Consulting, Inc. | San Antonio | TX | 1,875,000.00
Technical Assistance Collaborative, Inc. | Boston | MA | 1,000,000.00
The Partnership Center, Ltd. | Cincinnati | OH | 1,000,000.00
United Native American Housing Association | Ronan | MT | 300,000.00
TOTAL |  |  | 56,497,435.00

[FR Doc. 2017-03781 Filed 2-24-17; 8:45 am]

BILLING CODE 4210-67-P